ENVIRONMENTAL PROTECTION AGENCY

40 CFR Part 81

[EPA-R09-OAR-2012-0189; FRL-9649-1]

Approval and Promulgation of Implementation Plans; Designation of Areas for Air Quality Planning Purposes; State of California; Ozone; Nitrogen Dioxide; Technical Amendments

AGENCY: Environmental Protection Agency (EPA).

ACTION: Final rule; technical amendments.

SUMMARY: EPA is making technical amendments to the Code of Federal Regulations (CFR) to reflect the final actions published by the Agency on October 7, 2003, April 30, 2004, and May 5, 2010 in connection with the designations and classifications of certain areas in California for the 1971 annual nitrogen dioxide standard and the 1997 eight-hour ozone standard pursuant to the Clean Air Act. The areas that are the subject of these technical amendments include Riverside County, Western Mojave Desert, South Coast Air Basin, Eastern Kern County, and San Diego County.

DATES: These technical amendments are effective on March 21, 2012.

FOR FURTHER INFORMATION CONTACT: Doris Lo, EPA Region IX, (415) 972-3959, lo.doris@epa.gov.

SUPPLEMENTARY INFORMATION:

Technical Amendment for California—NO2 Table in 40 CFR 81.305

In today's action, we are making a technical amendment to correct an erroneous codification of our 2003 boundary change rule with respect to the “California—NO2 (1971 Annual Standard)” table in 40 CFR 81.305.¹ As described in our October 7, 2003 final rule (68 FR at 57821 and 57824) redesignating certain air quality planning area boundaries in southern California, we intended to revise the entry in the table for “Riverside County (portion within SE. Desert AQMD) County” to “Riverside County (Coachella Valley planning area)” and to revise the entry for “Riverside County, non-AQMA portion County” to “Riverside County (portion not within South Coast Air Basin or Coachella Valley planning area).” However, the entry for “Riverside County (Coachella Valley planning area),” which was to become an entry in the table, is not found in the current version of the “California—NO2 (1971 Annual Standard)” table whereas the entry for “Riverside County, non-AQMA portion County,” which was intended to be replaced, remains in the table. In today's action, we are making a technical amendment to ensure that the “California—NO2 (1971 Annual Standard)” table in 40 CFR 81.305 to accurately reflect the intent of our 2003 boundary change action.

¹ The table heading was recently revised to read “California—NO2 (1971 Annual Standard)” in a final rule published on February 17, 2012 at 77 FR 9532, at 9540, effective February 29, 2012. The table heading previously had been “California-NO2.”

Today's technical amendment makes no change to the substance of our October 7, 2003 final rule.

Technical Amendments for California—Ozone (8-Hour Standard) Table in 40 CFR 81.305

With respect to the “California—Ozone (8-Hour Standard)” table in 40 CFR 81.305, we are making a number of technical amendments that stem from previous EPA rulemakings. All of the subject areas are located within the State of California.

On April 30, 2004, at 69 FR 23858, we published a final rule announcing and promulgating designations, classifications, and boundaries for areas in the country with respect to the 1997 8-hour ozone National Ambient Air Quality Standard (NAAQS) in accordance with the requirements of the Clean Air Act (CAA). In our April 30, 2004 final rule, we designated the Western Mojave Desert area as a moderate nonattainment area for the 1997 8-hour ozone National Ambient Air Quality Standard. See 69 FR 23858, at 23884-85 (April 30, 2004). Subsequently, on May 5, 2010, EPA published a final rule granting California's request for reclassification of several areas for the 1997 8-hour ozone standard. See 75 FR 24409 (May 5, 2010). The Western Mojave Desert was not among the areas that were the subject of EPA's May 5, 2010 final rule, but the changes made to the “California—Ozone (8-Hour Standard)” table to codify our May 5, 2010 final rule had the inadvertent effect of removing a portion of the definition of the Western Mojave Desert 8-hour ozone nonattainment area from the “California—Ozone (8-Hour Standard)” table. In today's action, EPA is making a technical amendment to re-insert the inadvertently removed portion of the definition of the Western Mojave Desert area into the “California—Ozone (8-Hour Standard)” table in 40 CFR 81.305.

Second, in codifying the designations in EPA's April 30, 2004 final rule, we inadvertently indented the title of the “Los Angeles-South Coast Air Basin, CA” in the “California—Ozone (8-Hour Standard)” table. Given the format of this table in the CFR, the inadvertent indentation of “Los Angeles-South Coast Air Basin, CA” in the “California—Ozone (8-Hour Standard)” table aligns the basin with the individual counties or portions thereof that comprise the basin and thus is potentially confusing. We are therefore making a technical amendment in today's action to properly format the title of the basin to show the proper relationship between the basin and the counties (or portions thereof) that comprise the basin.

Third, in our April 30, 2004 final rule, we inadvertently failed to list the Indian Wells Valley area (which is that portion of Kern County that lies in hydrologic unit number 18090205) as “Unclassifiable/Attainment” in the California table of designations and classifications for the 8-hour ozone standard. We provided an explanation for distinguishing the Indian Wells Valley area from the rest of eastern Kern County in the background documentation for the April 30, 2004 final rule, but did not include the appropriate listing in the California table. See pages 3-22 to 3-23 in Chapter 3 (“Justifications in Support of EPA's 8-Hour Ozone Designations”) of EPA's report in support of the final designations entitled, “Technical Support for State and Tribal Air Quality Designations and Classifications” (April 2004). In today's action, we are making a technical amendment to properly list the Indian Wells Valley portion of eastern Kern County as an “Unclassifiable/Attainment” area for the 1997 8-hour ozone standard.

Lastly, in EPA's April 30, 2004 final rule, EPA designated all of San Diego County in California as a nonattainment area for the 8-hour ozone standard but excluded from that nonattainment area a list of areas identified as La Posta Areas #1 and #2, Cuyapaipe Area, Manzanita Area, and Campo Areas #1 and #2. See 69 FR at 23887. We intended to designate the latter areas as “Unclassifiable/Attainment” and included our justification for their area designations and rationale for distinguishing them from the surrounding nonattainment area in the Technical Support Document for nationwide 8-hour ozone designations final rule. See pages 3-34 to 3-36 in Chapter 3 (“Justifications in Support of EPA's 8-Hour Ozone Designations”) of EPA's report in support of the final designations entitled, “Technical Support for State and Tribal Air Quality Designations and Classifications” (April 2004). However, the entries for these areas were inadvertently omitted from the table codifying designations and classifications for the 8-hour ozone standard within the State of California. In today's action, we are making a technical amendment to properly list the four tribal areas in eastern San Diego County as “Unclassifiable/Attainment” areas for the 1997 8-hour ozone standard.

Today's technical amendments make no change to the substance of EPA's April 30, 2004 or May 5, 2010 final rules.

List of Subjects in 40 CFR Part 81

Environmental protection, Air pollution control, National parks, Wilderness areas.

Dated: March 8, 2012.
Jared Blumenfeld,
Regional Administrator, Region IX.

Part 81, chapter I, title 40 of the Code of Federal Regulations is amended as follows:

PART 81—[AMENDED]

1. The authority citation for part 81 continues to read as follows:

Authority: 42 U.S.C. 7401 et seq.

2. Section 81.305 is amended as follows:

a. In the table for “California—NO2 (1971 Annual Standard)” by removing the entry for “Riverside County, non-AQMA portion County” and adding an entry for “Riverside County (Coachella Valley Planning Area)” in its place;

b. In the table for “California—Ozone (8-Hour Standard)” by revising the entries for “Kern County (Eastern Kern), CA,” “Kern County (part),” “Los Angeles-South Coast Air Basin, CA,” “Los Angeles County (part),” “Orange County,” “Riverside County (part),” “San Bernardino County (part),” “San Diego, CA,” and “San Diego County (part).”

The revisions read as follows:

§ 81.305 California.

* * * * *

California—NO2
[1971 Annual standard]
Designated area | Does not meet primary standards | Cannot be classified or better than national standards
* * * * * *
Riverside County (Coachella Valley planning area) |  | X
* * * * * * *

California—Ozone
[8-Hour standard]
Designated area | Designation ᵃ: Date ¹ | Designation ᵃ: Type | Classification: Date ¹ | Classification: Type
* * * * * * *
Kern County (Eastern Kern), CA:
Kern County (part) |  | Nonattainment |  | Subpart 1.
That portion of Kern County (with the exception of that portion in Hydrologic Unit #18090205—the Indian Wells Valley) east and south of a line described as follows: Beginning at the Kern-Los Angeles County boundary and running north and east along the northwest boundary of the Rancho La Liebre Land Grant to the point of intersection with the range line common to Range 16 West and Range 17 West, San Bernardino Base and Meridian; north along the range line to the point of intersection with the Rancho El Tejon Land Grant boundary; then southeast, northeast, and northwest along the boundary of the Rancho El Tejon Grant to the northwest corner of Section 3, Township 11 North, Range 17 West; then west 1.2 miles; then north to the Rancho El Tejon Land Grant boundary; then northwest along the Rancho El Tejon line to the southeast corner of Section 34, Township 32 South, Range 30 East, Mount Diablo Base and Meridian; then north to the northwest corner of Section 35, Township 31 South, Range 30 East; then northeast along the boundary of the Rancho El Tejon Land Grant to the southwest corner of Section 18, Township 31 South, Range 31 East; then east to the southeast corner of Section 13, Township 31 South, Range 31 East; then north along the range line common to Range 31 East and Range 32 East, Mount Diablo Base and Meridian, to the northwest corner of Section 6, Township 29 South, Range 32 East; then east to the southwest corner of Section 31, Township 28 South, Range 32 East; then north along the range line common to Range 31 East and Range 32 East to the northwest corner of Section 6, Township 28 South, Range 32 East, then west to the southeast corner of Section 36, Township 27 South, Range 31 East, then north along the range line common to Range 31 East and Range 32 East to the Kern-Tulare County boundary.
Kern County (part) |  | Unclassifiable/Attainment
That portion of Kern County contained with Hydrologic Unit #18090205—Indian Wells Valley.
* * * * * * *
Los Angeles—South Coast Air Basin, CA: |  | Nonattainment | (²) | Subpart 2/Extreme.
Los Angeles County (part) |  | Nonattainment | (²) | Subpart 2/Extreme.
That portion of Los Angeles County which lies south and west of a line described as follows: Beginning at the Los Angeles-San Bernardino County boundary and running west along the Township line common to Township 3 North and Township 2 North, San Bernardino Base and Meridian; then north along the range line common to Range 8 West and Range 9 West; then west along the Township line common to Township 4 North and Township 3 North; then north along the range line common to Range 12 West and Range 13 West to the southeast corner of Section 12, Township 5 North and Range 13 West; then west along the south boundaries of Sections 12, 11, 10, 9, 8, and 7, Township 5 North and Range 13 West to the boundary of the Angeles National Forest which is collinear with the range line common to Range 13 West and Range 14 West; then north and west along the Angeles National Forest boundary to the point of intersection with the Township line common to Township 7 North and Township 6 North (point is at the northwest corner of Section 4 in Township 6 North and Range 14 West); then west along the Township line common to Township 7 North and Township 6 North; then north along the range line common to Range 15 West and Range 16 West to the southeast corner of Section 13, Township 7 North and Range 16 West; then along the south boundaries of Sections 13, 14, 15, 16, 17, and 18, Township 7 North and Range 16 West; then north along the range line common to Range 16 West and Range 17 West to the north boundary of the Angeles National Forest (collinear with the Township line common to Township 8 North and Township 7 North); then west and north along the Angeles National Forest boundary to the point of intersection with the south boundary of the Rancho La Liebre Land Grant; then west and north along this land grant boundary to the Los Angeles-Kern County boundary.
Orange County |  | Nonattainment | (²) | Subpart 2/Extreme.
Riverside County (part) |  | Nonattainment | (²) | Subpart 2/Extreme.
That portion of Riverside County, except that portion of the area defined below that lies within the Morongo Reservation or the Pechanga Reservation ᶜ, which lies to the west of a line described as follows: Beginning at the Riverside-San Diego County boundary and running north along the range line common to Range 4 East and Range 3 East, San Bernardino Base and Meridian; then east along the Township line common to Township 8 South and Township 7 South; then north along the range line common to Range 5 East and Range 4 East; then west along the Township line common to Township 6 South and Township 7 South to the southwest corner of Section 34, Township 6 South, Range 4 East; then north along the west boundaries of Sections 34, 27, 22, 15, 10, and 3, Township 6 South, Range 4 East; then west along the Township line common to Township 5 South and Township 6 South; then north along the range line common to Range 4 East and Range 3 East; then west along the south boundaries of Sections 13, 14, 15, 16, 17, and 18, Township 5 South, Range 3 East; then north along the range line common to Range 2 East and Range 3 East; to the Riverside-San Bernardino County line.
Morongo Reservation ᶜ |  | Nonattainment | (²) | Subpart 2/Severe-17.
Pechanga Reservation ᶜ |  | Nonattainment | (²) | Subpart 2/Severe-17.
San Bernardino County (part) |  | Nonattainment | (²) | Subpart 2/Extreme.
That portion of San Bernardino County which lies south and west of a line described as follows: Beginning at the San Bernardino-Riverside County boundary and running north along the range line common to Range 3 East and Range 2 East, San Bernardino Base and Meridian; then west along the Township line common to Township 3 North and Township 2 North to the San Bernardino-Los Angeles County boundary.
Los Angeles and San Bernardino Counties (Western Mojave Desert), CA |  | Nonattainment |  | Subpart 2/Moderate.
Los Angeles County (part) |  | Nonattainment |  | Subpart 2/Moderate.
That portion of Los Angeles County which lies north and east of a line described as follows: Beginning at the Los Angeles-San Bernardino County boundary and running west along the Township line common to Township 3 North and Township 2 North, San Bernardino Base and Meridian; then north along the range line common to Range 8 West and Range 9 West; then west along the Township line common to Township 4 North and Township 3 North; then north along the range line common to Range 12 West and Range 13 West to the southeast corner of Section 12, Township 5 North and Range 13 West; then west along the south boundaries of Sections 12, 11, 10, 9, 8, and 7, Township 5 North and Range 13 West to the boundary of the Angeles National Forest which is collinear with the range line common to Range 13 West and Range 14 West; then north and west along the Angeles National Forest boundary to the point of intersection with the Township line common to Township 7 North and Township 6 North (point is at the northwest corner of Section 4 in Township 6 North and Range 14 West); then west along the Township line common to Township 7 North and Township 6 North; then north along the range line common to Range 15 West and Range 16 West to the southeast corner of Section 13, Township 7 North and Range 16 West; then along the south boundaries of Sections 13, 14, 15, 16, 17, and 18, Township 7 North and Range 16 West; then north along the range line common to Range 16 West and Range 17 West to the north boundary of the Angeles National Forest (collinear with the Township line common to Township 8 North and Township 7 North); then west and north along the Angeles National Forest boundary to the point of intersection with the south boundary of the Rancho La Liebre Land Grant; then west and north along this land grant boundary to the Los Angeles-Kern County boundary.
San Bernardino County (part) |  | Nonattainment |  | Subpart 2/Moderate.
That portion of San Bernardino County which lies north and east of a line described as follows: Beginning at the San Bernardino-Riverside County boundary and running north along the range line common to Range 3 East and Range 2 East, San Bernardino Base and Meridian; then west along the Township line common to Township 3 North and Township 2 North to the San Bernardino-Los Angeles County boundary; And that portion of San Bernardino County which lies south and west of a line described as follows: latitude 35 degrees, 10 minutes north and longitude 115 degrees, 45 minutes west.
* * * * * * *
San Diego County, CA:
San Diego County (part) |  | Nonattainment |  | Subpart 1.
That portion of San Diego County that excludes La Posta Areas #1 and #2,ᵇ Cuyapaipe Area,ᵇ Manzanita Area,ᵇ and Campo Areas #1 and #2.ᵇ
San Diego County (part)
La Posta Areas #1 and #2 ᵇ |  | Unclassifiable/Attainment
Cuyapaipe Area ᵇ |  | Unclassifiable/Attainment
Manzanita Area ᵇ |  | Unclassifiable/Attainment
Campo Areas #1 and #2 ᵇ |  | Unclassifiable/Attainment
* * * * * * *
ᵃ Includes Indian Country located in each county or area, except as otherwise specified.
ᵇ The boundaries for these designated areas are based on coordinates of latitude and longitude derived from EPA Region 9's GIS database and are illustrated in a map entitled “Eastern San Diego County Attainment Areas for the 8-Hour Ozone NAAQS,” dated March 9, 2004, including an attached set of coordinates. The map and attached set of coordinates are available at EPA's Region 9 Air Division office. The designated areas roughly approximate the boundaries of the reservations for these tribes, but their inclusion in this table is intended for CAA planning purposes only and is not intended to be a Federal determination of the exact boundaries of the reservations. Also, the specific listing of these tribes in this table does not confer, deny, or withdraw Federal recognition of any of the tribes so listed nor any of the tribes not listed.
ᶜ The use of reservation boundaries for this designation is for purposes of CAA planning only and is not intended to be a Federal determination of the exact boundaries of the reservations. Nor does the specific listing of the Tribes in this table confer, deny, or withdraw Federal recognition of any of the Tribes listed or not listed.
¹ This date is June 15, 2004, unless otherwise noted.
² This date is June 4, 2010.

* * * * *

[FR Doc. 2012-6562 Filed 3-20-12; 8:45 am]

BILLING CODE 6560-50-P